COMMODITY FUTURES TRADING COMMISSION

Sunshine Act; Meetings

Time and Date: 10:30 a.m., Friday September 26, 2003.

Place: 1155 21st St., NW., Washington, DC, Room 1012.

Status: Closed.

Matters to be Considered. Surveillance Matters.

Contact Person for More Information: Jean A. Webb, (202) 418-5100.

Jean A. Webb,
Secretary of the Commission.

[FR Doc. 03-21915 Filed 8-22-03; 8:45 am]

BILLING CODE 6351-01-M